DEPARTMENT OF COMMERCE

National Oceanic and Atmospheric Administration

RIN 0648-XA737

North Pacific Fishery Management Council; Public Meeting

AGENCY: National Marine Fisheries Service (NMFS), National Oceanic and Atmospheric Administration (NOAA), Commerce.

ACTION: Notice of a public meeting.

SUMMARY: The North Pacific Fishery Management Council (Council) Charter Management Implementation Committee will meet October 26, 2011 in Anchorage, AK.

DATES: The meeting will be held on October 26, 2011, 10 a.m. to 4 p.m.

ADDRESSES: The meeting will be held at the Clarion Suites, Heritage Room, 1110 West 8th Avenue, Anchorage AK.

Council address: North Pacific Fishery Management Council, 605 W. 4th Ave., Suite 306, Anchorage, AK 99501-2252.

FOR FURTHER INFORMATION CONTACT: Jane DiCosimo, Council staff; telephone: (907) 271-2809.

SUPPLEMENTARY INFORMATION: The committee agenda is limited to (1) reviewing a draft discussion paper of potential management measures that could replace the most restrictive measure under the proposed Halibut Catch Sharing Plan (also known as the “CSP”) for the charter and commercial Pacific halibut sectors and (2) developing recommendations for the Council to consider as alternative management approaches to the bag limit of one fish of a maximum size, which is currently proposed under the management tier of the CSP that is associated with the lowest level of halibut abundance. The committee's recommendation will be reported to the North Pacific Council at its December 2011 meeting in Anchorage, Alaska. A discussion paper with background information is posted on the Council Web site: http://www.alaskafisheries.noaa.gov/npfmc/.

The meeting is physically accessible to people with disabilities. Requests for sign language interpretation or other auxiliary aids should be directed to Gail Bendixen at (907) 271-2809 at least 7 working days prior to the meeting date.

Dated: September 27, 2011.
Tracey L. Thompson,
Acting Director, Office of Sustainable Fisheries, National Marine Fisheries Service.

[FR Doc. 2011-25203 Filed 9-29-11; 8:45 am]

BILLING CODE 3510-22-P